DEPARTMENT OF COMMERCE

International Trade Administration

[C-489-806]

Certain Pasta From Turkey: Preliminary Results of Countervailing Duty Administrative Review

AGENCY: Import Administration, International Trade Administration, Department of Commerce.

SUMMARY: The Department of Commerce (the “Department”) is conducting an administrative review of the countervailing duty order on certain pasta (“pasta”) from Turkey for the period January 1, 2010, through December 31, 2010. We preliminarily determine that the net subsidy rate for the companies under review is de minimis. Interested parties are invited to comment on these preliminary results.

DATES: Effective Date: August 3, 2012.

FOR FURTHER INFORMATION CONTACT: David Layton at 202-482-0371 or Christopher Siepmann at 202-482-7958, AD/CVD Operations, Office 1, Import Administration, International Trade Administration, U.S. Department of Commerce, 14th Street and Constitution Avenue NW., Washington, DC 20230.

SUPPLEMENTARY INFORMATION:

Background

On July 1, 2011, the Department published a notice of opportunity to request an administrative review of the countervailing duty order on pasta from Turkey.¹ On July 29, 2011, we received a letter from Marsan Gida Sanayi ve Ticaret A.Ş. (“Marsan”), Birlik Pazarlama Sanayi ve Ticaret A.Ş. (“Birlik”), Bellini Gida Sanayi A.Ş. (“Bellini”), and Marsa Yag Sanayi ve Ticaret A.Ş. (“Marsa Yag”), jointly requesting that the Department conduct a review of those companies.²

¹ See Antidumping or Countervailing Duty Order, Finding, or Suspended Investigation; Opportunity To Request Administrative Review, 76 FR 38609 (July 1, 2011).

² See Letter from Marsan, Birlik, Bellini and Marsa Yag to the Department, “Request for Administrative Review” (July 29, 2011) (“Review Request”).

On August 26, 2011, the Department initiated an administrative review of the countervailing duty order on pasta from Turkey for the period January 1, 2010, through December 31, 2010, covering Marsan, Birlik, Bellini, and Marsa Yag.³

³ See Initiation of Antidumping and Countervailing Duty Administrative Reviews and Requests for Revocation in Part, 76 FR 53404 (August 26, 2011) (“Initiation Notice”).

Scope of the Order

The scope of the order consists of certain non-egg dry pasta in packages of five pounds (or 2.27 kilograms) or less, whether or not enriched or fortified or containing milk or other optional ingredients such as chopped vegetables, vegetable purees, milk, gluten, diastases, vitamins, coloring and flavorings, and up to two percent egg white. The pasta covered by the order is typically sold in the retail market, in fiberboard or cardboard cartons or polyethylene or polypropylene bags, of varying dimensions.

Excluded from the scope of the order are refrigerated, frozen, or canned pastas, as well as all forms of egg pasta, with the exception of non-egg dry pasta containing up to two percent egg white.

The merchandise under review is currently classifiable under subheading 1902.19.20 of the Harmonized Tariff Schedule of the United States (“HTSUS”). Although the HTSUS subheading is provided for convenience and customs purposes, our written description of the scope of the order is dispositive.

Period of Review

The period of review (“POR”) for which we are measuring subsidies is January 1, 2010, through December 31, 2010.

Subsidies Valuation Information

Attribution of Subsidies

In their Review Request, Marsan, Birlik, Bellini, and Marsa Yag claimed to be “affiliates.” Upon initiation, the Department used the same language contained in the Review Request. However, by referring to Marsan's “affiliates” in the Initiation Notice, the Department did not determine that the companies subject to review are affiliated. Rather, the Initiation Notice echoes the language used by Marsan, Birlik, Bellini and Marsa Yag in their request for review.

In a countervailing duty proceeding, the Department is primarily concerned not with affiliation, but with cross-ownership. See 19 CFR 351.525(b)(6). The standard for cross-ownership is established by 19 CFR 351.525(b)(6)(vi). This regulation states that “{c}ross-ownership exists between two or more corporations where one corporation can use or direct the individual assets of the other corporation(s) in essentially the same ways it can use its own assets. Normally, this standard will be met where there is a majority voting ownership interest between two corporations or through common ownership of two (or more) corporations.”

Based on our review of the totality of arguments and information submitted by Marsan, Birlik, Bellini and Marsa Yag, we preliminarily determine that cross-ownership existed between Birlik and Bellini, and a third company, Istanbul Gida Dis Ticaret A.Ş. (“Istanbul Gida”), which exported subject merchandise produced by Birlik and Bellini to the United States during the POR.⁴ We also preliminarily determine that Marsan was not cross-owned with Birlik, Bellini and Marsa Yag during the POR. See Attribution Memo for additional information.

⁴ See Memorandum from Christopher Siepmann, International Trade Compliance Analyst, to Susan Kuhbach, Office Director, “Attribution Memorandum for Marsan Gida Sanayi ve Ticaret A.Ş. (“Marsan”), Birlik Pazarlama Sanayi ve Ticaret A.Ş. (“Birlik”), Bellini Gida Sanayi A.Ş. (“Bellini”), and Marsa Yag Sanayi ve Ticaret A.Ş. (“Marsa Yag”)” (July 30, 2012) (“Attribution Memo”).

Although Marsa Yag was among the companies that requested a review, there is no indication that Marsa Yag produced subject merchandise or exported subject merchandise to the United States during the POR. Therefore, Marsa Yag is not a proper respondent in this review. Nor does Marsa Yag otherwise meet the criteria of 19 CFR 351.525(b)(6)(iii)-(v). Therefore, although Marsa Yag would be considered as cross-owned with Birlik, Bellini and Istanbul Gida, we have not included Marsa Yag in calculating the countervailing duty rate for Birlik, Bellini, and Istanbul Gida, and the rate calculated for those companies would not apply to any future entries from Marsa Yag.

The Department's regulations at 19 CFR 351.525(b)(6)(i) state that the Department will normally attribute a subsidy to the products produced by the corporation that received the subsidy. However, 19 CFR 351.525(b)(6)(ii)-(v) direct that the Department will attribute subsidies received by certain other companies to the combined sales of those companies if (1) cross-ownership exists between the companies, and (2) the cross-owned companies produce the subject merchandise, are a holding or parent company of the subject company, produce an input that is primarily dedicated to the production of the downstream product, or transfer a subsidy to a cross-owned company. The Court of International Trade (“CIT”) has upheld the Department's authority to attribute subsidies based on whether a company could use or direct the subsidy benefits of another company in essentially the same way it could use its own subsidy benefits.⁵

⁵ See Fabrique de Fer de Charleroi, SA v. United States, 166 F. Supp. 2d 593, 600-604 (CIT 2001).

Birlik, Bellini and Istanbul Gida: As discussed above, the Department preliminarily determines that Birlik and Bellini were cross-owned. Additionally, Birlik and Bellini were producers of subject merchandise during the POR.⁶ Therefore, in accordance with 19 CFR 351.525(b)(6)(ii), we are attributing subsidies received by Birlik and Bellini to the combined sales of the two companies, exclusive of sales to each other. As noted above, another cross-owned company, Istanbul Gida, acted as a trading company for subject merchandise produced by Birlik and Bellini. The Department has previously found it appropriate to analyze subsidies to a cross-owned trading company by attributing subsidies received by the trading company to the consolidated sales of the trading company and any cross-owned producers of subject merchandise, net of intercompany sales.⁷ Thus, we are attributing subsidies received by Istanbul Gida to the consolidated sales of Istanbul Gida, Birlik and Bellini, net of intercompany sales. See Attribution Memo.

⁶ See, e.g., Marsan, Birlik, Bellini and Marsa Yag's initial questionnaire response dated December 5, 2011 at 4-5 and 8.

⁷ See, e.g., Certain Steel Wheels From the People's Republic of China: Final Affirmative Countervailing Duty Determination, Final Affirmative Critical Circumstances Determination, 77 FR 17017 (March 23, 2012), and accompanying Issues and Decision Memorandum at 5.

Marsan: As discussed above, the Department preliminarily determines that Marsan is not cross-owned with Birlik, Bellini or Marsa Yag. Also, during the POR, Marsan did not produce subject merchandise. It did, however, act as a trading company by exporting to the United States subject merchandise produced by Birlik and Bellini. Pursuant to 19 CFR 351.525(c), the Department will cumulate benefits from subsidies provided to trading companies that export subject merchandise with benefits from subsidies provided to the firm which is producing subject merchandise that is sold through the trading company, regardless of whether the trading company and the producing firm are affiliated. Thus, in order to arrive at a rate for Marsan, we are adding the rate for subsidies received by Marsan to the rate for subsidies received by the subject merchandise producers (Birlik and Bellini).

Allocation Period

Pursuant to 19 CFR 351.524(b), benefits from non-recurring subsidies are allocated over a period corresponding to the average useful life (“AUL”) of the renewable physical assets used to produce the subject merchandise. The Department's regulations create a rebuttable presumption that the AUL will be taken from the U.S. Internal Revenue Service's Class Life Asset Depreciation Range System (“IRS Tables”).⁸ For pasta production, the IRS Tables prescribe an AUL of 12 years. None of the responding companies or other interested parties objected to this allocation period. Therefore, we have used a 12-year allocation period.

⁸ See 19 CFR 351.524(d)(2); U.S. Internal Revenue Service Publication 946 (2008), How to Depreciate Property, at Table B-2: Table of Class Lives and Recovery Periods.

Analysis of Programs

Based on our analysis of the responses to our questionnaires, we preliminarily determine the following:

I. Programs Preliminarily Determined To Be Countervailable

A. Deduction From Taxable Income for Export Revenue

Article 40 of Income Tax Law 193, dated January 6, 1961, which was amended by Law 4108 on June 2, 1995, allows taxpayers engaged in overseas activities related to exports, construction, maintenance, assembly and transportation to claim a lump sum deduction from gross income in an amount not to exceed 0.5 percent of the taxpayer's foreign-exchange earnings.⁹ There is no application or approval process for this program. Id. at 11-12. Instead, a company claiming the deduction records an expense in its marketing, selling and distribution expense account equal to the amount of the deduction for which it is eligible.¹⁰ When submitting its tax return, the company reports its total sales less the amount of the expense it recorded in its accounting records.¹¹ Istanbul Gida reported that it received benefits under this program during the POR because it is an exporter.¹²

⁹ See the Government Of Turkey's (“GOT”) first supplemental questionnaire response dated March 30, 2012, at 11.

¹⁰ See, e.g., Marsan, Birlik, Bellini and Marsa Yag's initial questionnaire response at 21.

¹¹ See the GOT's first supplemental questionnaire response at 12-13.

¹² See Marsan, Birlik, Bellini and Marsa Yag's initial questionnaire response at 21.

We preliminarily determine that this tax deduction is a countervailable subsidy. The deduction provides a financial contribution within the meaning of section 771(5)(D)(ii) of the Tariff Act of 1930, as amended (“the Act”), because it represents revenue forgone by the GOT. The deduction also provides a benefit as described by section 771(5)(E) of the Act, in the amount of the tax savings to the company. Finally, it is specific within the meaning of section 771(5A)(A) and (B) of the Act because its receipt is contingent upon export earnings. The Department has previously found this program countervailable.¹³

¹³ See, e.g., Certain Welded Carbon Steel Standard Pipe From Turkey: Preliminary Results of Countervailing Duty Administrative Review, 75 FR 16439, 16440-41 (April 1, 2010), unchanged in Certain Welded Carbon Steel Standard Pipe from Turkey: Final Results of Countervailing Duty Administrative Review, 75 FR 44766 (July 29, 2010).

The Department typically considers tax deductions to provide recurring benefits, in accordance with 19 CFR 351.524(c)(1). To calculate the countervailable subsidy rate for this program, we calculated the tax savings realized by Istanbul Gida in 2010 as a result of the deduction. We multiplied the amount of the deduction Istanbul Gida claimed in 2010 by the 20 percent tax rate applicable to Istanbul Gida. We divided the resulting benefit by the consolidated export sales of Istanbul Gida, Birlik and Bellini in 2010, net of intercompany sales.

On this basis, we preliminarily determine the net countervailable subsidy for this program to be 0.08 percent ad valorem for Istanbul Gida.

B. Law 5084: Incentive for Employers' Share in Insurance Premiums

The Social Security Institution of the GOT administers the Incentive for the Employer's Share in Insurance Premiums Program (Insurance Premiums Program) pursuant to Article 2 and Article 4 of Law 5084.¹⁴ According to the GOT, this program provides an incentive for companies to invest in any of 49 disadvantaged provinces. For companies that establish their facilities in a disadvantaged province, the GOT will cover up to 80 percent of the employer's share of social security premiums for employees working in the province. If the company's facility is located in an industrial zone within a disadvantaged province, the GOT will pay 100 percent of the employer's share.¹⁵

¹⁴ See the GOT's first supplemental questionnaire response at 1.

¹⁵ Id. at 2.

In order to continue to receive support under this program, employers must submit documentation each month to the Social Security Institution prior to the deadlines stipulated by Social Security Law No. 506. They must also pay their employees' share of the insurance premiums, as well as whatever portion of the employer's share the GOT does not pay. Id.

Birlik reported that it received benefits under this program during the POR. When asked what criteria Birlik needed to satisfy to be eligible for this program, Birlik replied that “{it} is a manufacturer; there are no other criteria.” ¹⁶ However, in an earlier questionnaire response, Birlik informed the Department that “Birlik produces soft wheat flour, rice flour, and other cereal flours, including rye, oat, sorghum, millet, soy bean and barley flour in plants in Ankara and Karaman, Turkey.” ¹⁷ Karaman is listed as one of the eligible 49 provinces by the GOT.¹⁸ Thus, record evidence shows that Birlik qualifies for this program under the eligibility criteria described by the GOT.

¹⁶ See Marsan, Birlik, Bellini and Marsa Yag's first supplemental questionnaire response dated March 30, 2012, at 13.

¹⁷ See Marsan, Birlik, Bellini and Marsa Yag's initial questionnaire response at 8.

¹⁸ See the GOT's first supplemental questionnaire response at Exhibit 2.

We preliminarily determine that this program is specific under section 771(5A)(D)(iv) of the Act because it is limited to companies located in designated geographical regions of the country. We also preliminarily determine that this program constitutes a financial contribution in the form of revenue forgone by the GOT within the meaning of section 771(5)(D)(ii) of the Act. Birlik received a benefit from the GOT in the amount of social security premiums it did not have to pay as a result of this program. Therefore, we preliminarily determine that the GOT's social security premium contributions under this program confer a countervailable subsidy.

We preliminarily determine that this program confers recurring benefits. See 19 CFR 351.524(c)(1). To calculate the net subsidy rate, we divided the total amount of insurance premium savings reported by Birlik by the consolidated total sales during the POR for Birlik and Bellini, net of sales to each other. On this basis, we preliminarily determine Birlik's net subsidy rate under this program to be 0.03 percent ad valorem.

C. Export Subsidy Program for Agricultural Products

Under this program, the GOT issues payments to companies exporting certain agricultural products, such as flowers, vegetables, fruit, olive oil, meats and chocolates. The eligible products, terms of the rebates and other regulations for this program for January 1, 2010, through December 31, 2010 are specified by Article 5 and Article 7 of Communiqué 2010/5, issued by the Money-Credit and Coordination Council. According to the GOT, this Communiqué has its legal basis in Council of Minister's Decree No. 94/6401.¹⁹ The program is administered by the Ministry of Economy, General Directorate of Export.

¹⁹ See the GOT's first supplemental questionnaire response at 7-8.

Companies wishing to take advantage of this program must apply through the applicable exporter's union. Once the company's application is accepted, an account is opened for the exporter at the Central Bank of the Republic of Turkey. For each ton of eligible product exported, the GOT credits the exporter's account with payments according to the schedule in Communiqué 2010/5. A formula governs the payments a company receives, which may fluctuate depending on the price of the exports and the ratios applicable to each product.²⁰

²⁰ See the GOT's initial questionnaire response at 32-34.

The funds deposited into the exporter's account may only be used to offset the company's obligations to the GOT. Pursuant to Article 7 of Communiqué 2010/5, these obligations include taxes, tax penalties, Social Security Institute payments, communication fees (fixed phone lines, telefax, etc.), energy costs (electricity and natural gas), debts to the Savings Deposits Insurance Fund and other debts.²¹

²¹ See the GOT's initial questionnaire response at Exhibit 11.

We preliminarily determine that this program is specific under section 771(5A)(A) and (B) of the Act because it is contingent on export performance. We also preliminarily determine that this program constitutes a financial contribution in the form of a grant within the meaning of section 771(5)(D)(i) of the Act. Participating companies receive a benefit within the meaning of section 771(5)(E) of the Act from the GOT in the amount of the grant. Therefore, we preliminarily determine that the GOT's reimbursements under this program confer a countervailable subsidy. Additionally, we preliminarily determine that benefits under this program are recurring. Once accepted into this program, a company can expect to receive payments in its account on an ongoing basis from year to year, as long as it is still exporting eligible products.

Marsan and Istanbul Gida reported receiving benefits under this program, both for pasta and for other products. According to the respondents, it is “impracticable” for the Department to measure benefits under this program according to the time at which funds were received, because the manner in which the payments are received makes it impossible to link them back to specific customs declarations or products. Rather, the respondents argue that it is appropriate to measure the benefit either according to the date of the exportation of the goods, or according to the date that Marsan or Istanbul Gida applied for the benefit. Either method would allow the Department to isolate the benefit conferred strictly on pasta.²²

²² See Marsan, Birlik, Bellini and Marsa Yag's initial questionnaire response at 28-29.

We have considered the respondents' arguments, and for the preliminary results, we are measuring benefits under this program according to the date on which the benefit was received by Marsan or Istanbul Gida. The Department's regulations specify that the Department “normally will consider a benefit as having been received on the date on which the firm received the grant,” and “will allocate (expense) a recurring benefit to the year in which the benefit is received.” See 19 CFR 351.504(b) and 19 CFR 351.524(a), respectively. We disagree with the respondents that this program warrants a departure from our usual practice. Thus, we have computed the subsidy using the total amounts received and allocated the benefit over total exports.

The Department analyzed a similar program, “Pasta Export Grants,” in the investigation of pasta from Turkey.²³ For the Preliminary Determination, we analyzed the benefit from Pasta Export Grants based on the time at which benefits were earned, stating that “although the U.S. dollar amount is known at the time of export, the amount the exporter will actually receive in {Turkish lira} is not certain until the time of receipt because it is subject to fluctuations in the exchange rate. This suggests that it may be more appropriate to calculate the benefits as they are received, rather than earned. We will consider this issue further for the final determination.” See Preliminary Determination, 60 FR at 53749. Then, we altered our approach for the Final Determination, stating that “the benefits under this program are bestowed when the cash is received, in the case of grants, and on maturity date, in the case of promissory notes or bonds.” See Final Determination, 61 FR at 30367-30368. Thus, our decision in this review is consistent with our prior practice.

²³ See Preliminary Affirmative Countervailing Duty Determination: Certain Pasta (“Pasta”) From Turkey, 60 FR 53747, 53749 (October 17, 1995) (“Preliminary Determination”), unchanged in Final Affirmative Countervailing Duty Determination: Certain Pasta (“Pasta”) from Turkey, 61 FR 30366, 30367-30368 (June 14, 1996) (“Final Determination”).

To calculate the countervailable subsidy rate, we treated the amounts received by Marsan and Istanbul Gida as a recurring benefit. For Marsan, we divided the total amount of grants received by Marsan in the POR by Marsan's total export sales in the POR. For Istanbul Gida, we divided the total amount of grants received by Istanbul Gida in the POR by the consolidated export sales of Istanbul Gida, Birlik and Bellini in the POR, net of intercompany sales. On this basis, we preliminarily determine the countervailable subsidy from this program to be 0.12 percent ad valorem for Marsan and 0.17 percent ad valorem for Istanbul Gida.

II. Programs Preliminarily Determined To Not Provide Countervailable Benefits During the POR

Consistent with 19 CFR 351.525(b)(5), we find that the grants received under these programs were tied to non-subject merchandise and, thus, did not confer a benefit to the production or sales of subject merchandise of the respondent companies during the POR.

A. “Turquality” Trademark Support

This program seeks to build international awareness of Turkish brands. It does so by reimbursing eligible companies for certain expenses related to promoting their products abroad. In order to be eligible, companies must hold at least one registered trademark domestically and one registered trademark in a target foreign market. After being approved, companies may affix the “Turquality” logo to products accepted into the program.

Istanbul Gida reported that it received funds under this program. However, the benefits were for expenses related to the “ÜLKER” brand of goods. According to Marsan, Birlik, Bellini and Marsa Yag, there is no “ÜLKER” brand pasta.²⁴ Because there was no benefit to the subject merchandise from this program during the POR, we have not analyzed it further and have not included it in our calculations.

²⁴ See, e.g., Marsan, Birlik, Bellini and Marsa Yag's first supplemental questionnaire response at 9.

B. Grants Paid for Attendance at Foreign Trade Shows

This program reimburses Turkish companies for expenses related to their attendance at foreign trade shows. Istanbul Gida reported that it received reimbursements during the POR for trade shows it attended in Russia, South Africa, Kenya and Hong Kong. However, it did not exhibit pasta at any of these events. Because there was no benefit to the subject merchandise from this program during the POR, we have not analyzed it further and have not included it in our calculations.

III. Programs Preliminarily Determined To Not Be Used

A. VAT Support for Domestic Machinery and Equipment Purchases

B. Pre-Shipment Export Loans

C. Resource Utilization Support Fund (“KKDF”) Tax Exemption on Export-Related Loans

D. Banking and Insurance (“BIST”) Tax Exemption on Export-Related Loans

E. Normal Foreign Currency Export Loans

F. Performance Foreign Currency Export Loans

G. GIEP

a. Additional Refunds of VAT

b. Postponement of VAT on Imported Goods

c. Exemption from Certain Taxes, Duties, Fees (Other Tax Exemptions)

d. Exemption from Certain Customs Duties and Fund Levies

e. Payment of Certain Obligations of Firms Undertaking Large Investments

f. Subsidized Turkish Lira Credit Facilities

g. Land Allocation

h. Interest Spread Return Program

i. Energy Support

H. Exemption from Mass Housing Fund Levy (Duty Exemptions)

I. Direct Payments to Exporters of Wheat Products to Compensate for High Domestic Input Prices

J. Export Credit Through Foreign Trade Corporate Companies Credit Facility

K. Pasta Export Grants

L. Corporate Tax Deferral

M. Subsidized Credit for Proportion of Fixed Expenditures

N. Subsidized Credit in Foreign Currencies

O. Subsidized Turkish Lira Credit Facilities

P. Exemption from Mass Housing Fund Levy (Duty Exemptions)

Preliminary Results of Review

In accordance with 19 CFR 351.221(b)(4)(i), we calculated subsidy rates for each producer/exporter subject to this administrative review. For the period January 1, 2010, through December 31, 2010, we preliminarily determine the following total net countervailable subsidy rates:

Exporter/manufacturer | Net subsidy rate
Marsan Gida Sanayi ve Ticaret A.Ş. | 0.15 (de minimis)
Istanbul Gida Dis Ticaret A.Ş./Birlik Pazarlama Sanayi ve Ticaret A.Ş./Bellini Gida Sanayi A.Ş. | 0.28 (de minimis)

Marsan's final cash deposit rate is a “combination rate” pursuant to 19 CFR 351.107(b). It applies only to subject merchandise exported by Marsan and produced by Birlik and/or Bellini.

Assessment Rates

If the final results remain the same as these preliminary results, the Department will instruct U.S. Customs and Border Protection (“CBP”) to liquidate without regard to countervailing duties shipments of subject merchandise (a) exported by Marsan and produced by Birlik and/or Bellini, or (b) exported by Istanbul Gida, Birlik or Bellini, and entered, or withdrawn from warehouse, for consumption from January 1, 2010, through December 31, 2010.

For all other combinations or companies, as appropriate, that were not reviewed, the Department will direct CBP to assess countervailing duties on all entries between January 1, 2010, and December 31, 2010, at the rates in effect at the time of entry.

The Department intends to issue appropriate assessment instructions directly to CBP 15 days after publication of the final results of this review.

Cash Deposit Instructions

The Department also intends to instruct CBP to collect cash deposits of estimated countervailing duties in the amounts shown above. For all non-reviewed firms, we will instruct CBP to collect cash deposits of estimated countervailing duties at the most recent company-specific or all-others rate applicable to the company. These rates shall apply to all non-reviewed companies until a review of a company assigned these rates is requested. These cash deposit requirements, when imposed, shall remain in effect until further notice.

Public Comment

Pursuant to 19 CFR 351.224(b), the Department will disclose to parties to the proceeding any calculations performed in connection with these preliminary results within 10 days after public announcement, or if there is no public announcement, five days after the date of the publication of this notice.

Pursuant to 19 CFR 351.309(c)(1)(ii), interested parties may submit written arguments in case briefs within 30 days of the date of publication of this notice. Rebuttal briefs, limited to issues raised in case briefs, may be filed no later than five days after the date of filing the case briefs, in accordance with 19 CFR 351.309(d). Any case briefs and rebuttal briefs must be filed via the Department's electronic records system, IA ACCESS, in accordance with 19 CFR 351.303. Parties who submit case briefs or rebuttal briefs in this proceeding are requested to submit with each argument: (1) A statement of the issue, and (2) a brief summary of the argument with an electronic version included. Copies of case briefs and rebuttal briefs must be served on interested parties in accordance with 19 CFR 351.303(f)(3)(i).

Also, pursuant to 19 CFR 351.310(c), within 30 days of the date of publication of this notice, interested parties may request a public hearing on arguments to be raised in the case and rebuttal briefs by electronically filing the request via IA ACCESS. Unless otherwise specified, the hearing, if requested, will be held two days after the scheduled date for submission of rebuttal briefs.

The Department will publish the final results of this administrative review, including the results of its analysis of arguments made in any case or rebuttal briefs, within 120 days from the publication of these preliminary results, in accordance with section 751(a)(3) of the Act, unless extended.

These preliminary results of review are issued and published in accordance with sections 751(a)(1) and 777(i)(1) of the Act and 19 CFR 351.221(b)(4).

Dated: July 27, 2012.
Paul Piquado,
Assistant Secretary for Import Administration.

[FR Doc. 2012-19053 Filed 8-2-12; 8:45 am]

BILLING CODE 3510-DS-P